DEPARTMENT OF HOMELAND SECURITY

Coast Guard

33 CFR Part 117

Drawbridge Operation Regulations

CFR Correction

In Title 33 of the Code of Federal Regulations, parts 1 to 124, revised as of July 1, 2003, on page 603, § 117.869 is corrected by removing paragraphs (a)(1) and (2).

[FR Doc. 03-55526 Filed 10-23-03; 8:45 am]

BILLING CODE 1505-01-D